DEPARTMENT OF DEFENSE

Defense Acquisition Regulations System

Information Collection Requirement; Defense Federal Acquisition Regulation Supplement; Part 244, Subcontracting Policies and Procedures (OMB Control Number 0704-0253)

AGENCY: Defense Acquisition Regulations System, Department of Defense.

ACTION: Notice and request for comments regarding a proposed extension of an approved information collection requirement.

SUMMARY: In compliance with section 3506(c)(2)(A) of the Paperwork Reduction Act of 1995 (44 U.S.C. Chapter 35), DoD announces the proposed extension of a public information collection requirement and seeks public comment on the provisions thereof. DoD invites comments on: (a) Whether the proposed collection of information is necessary for the proper performance of the functions of DoD, including whether the information will have practical utility; (b) the accuracy of the estimate of the burden of the proposed information collection; (c) ways to enhance the quality, utility, and clarity of the information to be collected; and (d) ways to minimize the burden of the information collection on respondents, including the use of automated collection techniques or other forms of information technology. The Office of Management and Budget (OMB) has approved this information collection requirement for use through November 30, 2010. DoD proposes that OMB extend its approval for three additional years.

DATES: DoD will consider all comments received by July 12, 2010.

ADDRESSES: You may submit comments, identified by OMB Control Number 0704-0253, using any of the following methods:

○ Federal eRulemaking Portal: http://www.regulations.gov. Follow the instructions for submitting comments.

○ E-mail: dfars@osd.mil. Include OMB Control Number 0704-0253 in the subject line of the message.

○ Fax: 703-602-0350.

○ Mail: Defense Acquisition Regulations System, Attn: Ms. Mary Overstreet, OUSD (AT&L) DPAP (DARS), 3060 Defense Pentagon, Room 3B855, Washington, DC 20301-3060.

Comments received generally will be posted without change to http://www.regulations.gov, including any personal information provided.

FOR FURTHER INFORMATION CONTACT: Ms. Mary Overstreet, 703-602-0311. The information collection requirements addressed in this notice are available on the World Wide Web at: http://www.acq.osd.mil/dpap/dars/dfars.html.

Paper copies are available from Ms. Mary Overstreet, OUSD (AT&L) DPAP (DARS), 3060 Defense Pentagon, Room 3B855, Washington, DC 20301-3060.

SUPPLEMENTARY INFORMATION:

Title and OMB Number: Defense Federal Acquisition Regulation Supplement (DFARS) Part 244, Subcontracting Policies and Procedures; OMB Control Number 0704-0253.

Needs and Uses: Administrative contracting officers use this information in making decisions to grant, withhold, or withdraw purchasing system approval at the conclusion of a purchasing system review. Withdrawal of purchasing system approval would necessitate Government consent to individual subcontracts.

Affected Public: Businesses or other for-profit and not-for-profit institutions.

Annual Burden Hours: 1,440.

Number of Respondents: 90.

Responses per Respondent: Approximately 1.

Annual Responses: 90.

Average Burden per Response: 16 hours.

Frequency: On occasion.

Summary of Information Collection

This information collection includes the requirements of DFARS 244.305-70, Granting, withholding, or withdrawing approval. DFARS 244.305-70 requires the administrative contracting officer, at the completion of the in-plant portion of a contractor purchasing system review, to ask the contractor to submit within 15 days its plan for correcting deficiencies or making improvements to its purchasing system.

Ynette R. Shelkin,
Editor, Defense Acquisition Regulations System.

[FR Doc. 2010-11284 Filed 5-11-10; 8:45 am]

BILLING CODE P